DEPARTMENT OF COMMERCE

National Oceanic and Atmospheric Administration

50 CFR Part 679

[Docket No. 250612-0099; RTID 0648-XE507]

Fisheries of the Exclusive Economic Zone off Alaska; Cook Inlet; Final 2025 Harvest Specifications for Salmon

AGENCY: National Marine Fisheries Service (NMFS), National Oceanic and Atmospheric Administration (NOAA), Commerce.

ACTION: Final rule; harvest specifications.

SUMMARY: NMFS announces the final 2025 harvest specifications for salmon fishing in the Cook Inlet exclusive economic zone (EEZ) Area. This action is necessary to establish harvest limits for salmon during the 2025 fishing year and to accomplish the goals and objectives of the Fishery Management Plan for the Salmon Fisheries in the EEZ off Alaska (Salmon FMP). The intended effect of this action is to conserve and manage the salmon resources in the Cook Inlet EEZ Area in accordance with the Magnuson-Stevens Fishery Conservation and Management Act (Magnuson-Stevens Act).

DATES: Harvest specifications and closures are effective at 0700 hours, Alaska local time (A.l.t.), June 16, 2025, until the effective date of the final 2026 harvest specifications for the Cook Inlet EEZ Area.

ADDRESSES: Electronic copies of the Environmental Assessment for the Harvest Specifications of the Cook Inlet Salmon Fisheries in the EEZ Off Alaska (EA); and the Finding of No Significant Impact (FONSI) prepared for this action are available from https://www.regulations.gov. The Environmental Assessment/Regulatory Impact Review for amendment 16 (A16 EA/RIR) to the Salmon FMP are available from the NMFS Alaska Region website at https://www.fisheries.noaa.gov/action/amendment-16-fmp-salmon-fisheries-alaska. The final 2025 Stock Assessment and Fishery Evaluation (SAFE) report is available from the Alaska Region website at https://www.fisheries.noaa.gov/alaska/commercial-fishing/cook-inlet-exclusive-economic-zone-salmon-stock-assessment-and-fishery.

FOR FURTHER INFORMATION CONTACT: Adam Zaleski, 907-586-7228, adam.zaleski@noaa.gov.

SUPPLEMENTARY INFORMATION: NMFS prepared the Salmon FMP under the authority of the Magnuson-Stevens Act (16 U.S.C. 1801 et seq.). Regulations governing U.S. fisheries and implementing the Salmon FMP appear at 50 CFR parts 600 and 679.

Section 679.118(b)(2) requires that NMFS consider public comment on the proposed harvest specifications and publish the final harvest specifications in the Federal Register. The proposed 2025 harvest specifications for the Cook Inlet EEZ Area were published in the Federal Register on April 4, 2025 (90 FR 14771). Comments were invited and accepted through May 5, 2025. The comments received and NMFS responses are addressed in the Response to Comments section below. After considering public comments submitted for the proposed rule (90 FR 14771, April 4, 2025), NMFS is implementing the final 2025 harvest specifications for the salmon fishery of the Cook Inlet Exclusive Economic Zone (EEZ) Area consistent with the Scientific and Statistical Committee's (SSC) fishing level recommendations which account for the uncertainty associated with this fishery.

Final 2025 Overfishing Limit (OFL), Acceptable Biological Catch (ABC), and Total Allowable Catch (TAC) Specifications

The final 2025 SAFE report contains a review of the latest scientific analyses and estimates of biological parameters for the Cook Inlet EEZ Area salmon stocks and stock complexes (a stock complex is an aggregate of multiple stocks of a species). NMFS presented the preliminary 2025 SAFE report, dated January 2025, at the February North Pacific Fishery Management Council (Council) meeting. The preliminary SAFE report provided recommendations to the SSC regarding the appropriate tiers for each stock; the status determination criteria (SDC) that will be used to evaluate overfishing (including OFLs); and the preliminary ABCs, which act as a ceiling for the TACs.

The Salmon FMP specifies methods to calculate OFLs and ABCs by assigning stocks to one of three tiers, with annual tier recommendations for each stock or stock complex provided in the SAFE report. The tier applicable to a particular stock or stock complex is determined by the level of reliable information available. Tier 1 stocks have the highest level of information quality available, while Tier 3 stocks have the lowest level of information quality available. NMFS used this tier structure to calculate OFLs and ABCs for each salmon stock or stock complex according to the methods specified in the Salmon FMP. Under the Salmon FMP, the annual catch limit (ACL) is set equal to ABC for each stock or stock complex, and TACs may be set less than ABC to account for additional sources of management uncertainty.

For Tier 1 stocks, the final 2025 SAFE report relies on forecasts of the coming year's salmon runs as the basis for the recommended OFLs and ABCs. SDC and harvest specifications are calculated in terms of potential yield. The potential yield is the total forecasted run size minus the number of salmon required to achieve spawning escapement targets and the estimated mortality from other sources, including other fisheries.

For 2025, no stocks were recommended to be Tier 2.

For Tier 3 stocks, the final SAFE report uses fishery catch estimates from prior years to inform the 2025 harvest specifications.

The SSC and Council reviewed NMFS's preliminary 2025 SAFE report for the Cook Inlet EEZ Area salmon fishery in February 2025. From these data and analyses, the SSC recommended an OFL and ABC for each salmon stock and stock complex. After considering the SSC's recommendations and public testimony, the Council unanimously took action to recommend TACs equal to the ABCs. Through this action, NMFS is implementing the OFLs and ABCs recommended by the SSC and TACs consistent with the Council's recommendations. Following the February Council meeting, NMFS updated the 2025 SAFE report to incorporate SSC recommendations (see ADDRESSES). The specifications of OFL, ABC, and TAC are consistent with the harvest strategy outlined in the Salmon FMP, the biological condition of salmon as described in the 2025 SAFE report, SSC and Council recommendations, and the Magnuson-Stevens Act, including the National Standards. ABC is less than the OFL for each stock or stock complex and, for 2025, the TACs are set equal to the aggregate ABCs for each species (table 1). Because it is not practicable to differentiate among stocks of the same species during the fishing season, NMFS will rely on historical stock contribution data and inseason management authority to account for the assumed contribution of each stock or stock complex to total catch, ensuring ABC is not exceeded for any stock or stock complex. The TACs are based on the 2025 SAFE report, SSC recommendations, and social and economic considerations that align with the Salmon FMP goals for the Cook Inlet EEZ Area, consistent with 50 CFR 679.118(a)(2).

NMFS is publishing the final 2025 harvest specifications after: (1) considering comments received within the comment period (see DATES); (2) considering information presented in the EA (see ADDRESSES); and (3) considering information presented in the final 2025 SAFE report prepared for the 2025 Cook Inlet EEZ Area salmon fishery (see 50 CFR 679.118(b)(2)).

The final 2025 OFLs, ABCs, and TACs are based on the best scientific information available—primarily the 2025 SAFE report. The 2025 SAFE report was subject to peer review by the SSC, which recommended the ABCs, consistent with 50 CFR 600.310(f)(3) and 600.315(c) through (d). The Council did not recommend additional buffers between the ABCs and TACs to account for management uncertainty because sufficient uncertainty was accounted for in the SSC's ABC recommendation to prevent any stock or stock complex from overfishing. For 2025, the TACs are set equal to the combined species-level ABCs and are less than the combined species-level OFLs for all salmon stocks or stock complexes (table 1). Based on NMFS's experience managing the fishery in 2024 (including monitoring the harvest and harvest rates for each salmon species) and NMFS's success in keeping harvests below the ABC for all stocks and stock complexes in 2024, and in light of the discrete number of openings and the ability to implement inseason closures, NMFS has determined that these harvest specifications will prevent overfishing and maintain harvest levels below the ABC/ACL for each stock or stock complex.

Table 1—Final 2025 Cook Inlet EEZ Area Salmon OFLs, ABCs, and TACs in Numbers of Fish
Stock or stock complex ¹ | OFL | ABC | TAC
Kenai River Late-Run sockeye salmon | 514,761 | 360,332 | 800,126
Kasilof River sockeye salmon | 664,294 | 285,646 |
Aggregate Other sockeye salmon | 181,351 | 154,148 |
Aggregate Chinook salmon | 373 | 261 | 261
Aggregate coho salmon | 67,013 | 16,753 | 16,753
Aggregate chum salmon | 97,508 | 78,006 | 78,006
Aggregate pink salmon | 58,174 | 52,357 | 52,357
¹ The TAC for sockeye salmon is combined for Kenai River Late-Run, Kasilof River, and Aggregate Other sockeye salmon because it is not possible to differentiate among stocks of sockeye at the time they are caught.

Response to Comments

NMFS published proposed harvest specifications on April 4, 2025 (90 FR 14771) and accepted public comment for 32 days, with the comment period closing on May 5, 2025. NMFS received 11 letters with 18 distinct comments during the public comment period. The comments were from individuals, individual drift gillnet fishermen, the Chickaloon Village Traditional Council, and the United Cook Inlet Drift Association.

Scope of the Harvest Specifications

Comment 1: Amendment 16 and the 2024 or 2025 harvest specifications do not set optimum yield (OY) based on maximum sustainable yield (MSY) as described in National Standard 1.

Response: NMFS disagrees. First, this action does not set or modify OY or MSY at all. To the extent this comment asserts that MSY and OY are improperly established by this rule, those assertions are outside of the scope of this action.

Second, Amendment 16 to the Salmon FMP (89 FR 34718, April 30, 2024) established OY and MSY for the Cook Inlet EEZ Area salmon fishery in a manner that is fully consistent with National Standard 1 and all National Standard Guidelines. Comments on OY were addressed in that final rule. The definition of OY for the Cook Inlet EEZ Area in Section 4.2.2 of the Salmon FMP is not part of the harvest specifications process.

To the extent this comment argues that the harvest specifications will not achieve OY, the summed TAC amounts across all species (table 1) fall within the OY range for the Cook Inlet EEZ Area salmon fishery (Section 4.2.2 of the Salmon FMP) and can be achieved by fishing vessels operating under the management measures implemented by amendment 16 and 50 CFR 679.118.

Comment 2: Several comments asserted that ACLs or TACs are an ineffective salmon management tool for salmon management and argue NMFS should rely on abundance-based management.

Response: Amendment 16 and its implementing regulations established the use of TACs for the Cook Inlet EEZ Area salmon fishery. This action does not change any of the fishery management policies adopted under amendment 16. Therefore, any comments related to the appropriateness of using TACs to manage the Cook Inlet EEZ Area salmon fishery are outside the scope of the harvest specifications rulemaking and this action.

These harvest specifications establish the OFL, ABC, and TAC amounts for salmon during the 2025 fishing year to accomplish the goals and objectives of the Salmon FMP.

While this comment is outside the scope of this action, NMFS disagrees that the use of a TAC is an ineffective management tool. Further, the Magnuson-Stevens Act requires that NMFS specify ACLs (16 U.S.C. 1853(a)(15)). Under the Salmon FMP, ACLs are equal to ABCs for the purposes of the Cook Inlet EEZ Area salmon fishery. Responses to similar comments were addressed in the Comments and Responses section of the amendment 16 final rule (starting on page 34724 at 89 FR 34718, April 30, 2024). Additionally, the Comments and Responses section of the Cook Inlet Final 2024 Harvest Specifications for Salmon (starting on page 51449 at 89 FR 51448, June 18, 2024) addressed similar comments.

Comment 3: The current management scheme limits fishing opportunity to an extent that it is impossible for the fleet to catch the TAC; such that an increased 2025 TAC from 2024 will still result in underharvest. Additionally, fishing in State and Federal waters on the same day should be permitted to spread out the fleet to avoid overfishing.

Response: NMFS implemented the regulations governing the Federal fishing season, fishing periods, and the prohibition on fishing in State and Federal waters on the same day under amendment 16 to the Salmon FMP (89 FR 34718, April 30, 2024), and these regulations are outside the scope of these harvest specifications. Sections 4.5 and 4.6 of the A16 EA/RIR provide the background and rationale for establishing the fishing season and periods for commercial and recreational fishing within the Cook Inlet EEZ Area. This action does not change any of the fishery management regulations implemented under amendment 16.

However, NMFS disagrees that the management regime limits fishing opportunities to an extent that it would be impossible for the fleet to harvest the TAC in 2025. During the 2024 salmon fishing season, an estimated 66 percent of the sockeye TAC was harvested by 206 total commercial participants. In total there were 244 vessels registered for this fishery in 2024 and the peak sockeye harvest occurred from July 8, 2024 to July 15, 2024, during which vessel participation did not exceed 185 vessels on any given day. This is approximately 75 percent of the vessels that could choose to participate in the fishery. Additionally, many participants chose to fish in State waters instead of the Cook Inlet EEZ Area on days when both areas were open. These factors taken together indicate that there was ample harvest opportunity and additional sockeye salmon available in 2024 for harvest in the Cook Inlet EEZ Area. Therefore, there is potential for significantly increased effort and harvest in the Cook Inlet EEZ Area that could lead to reaching the TAC established for one or more stocks.

Comment 4: Constitutional rights were violated last season by prohibiting fishing in State and Federal waters on the same day, as well as a violation of rights to due process by the dereliction of the Department of Justice in dealing with judicial misconduct resulting in well over a year of harmful delay.

Response: Comments regarding the constitutionality of management measures implemented under amendment 16 and ongoing litigation challenging amendment 16, the implementing regulations, and the 2024 harvest specifications are outside the scope of the 2025 harvest specifications. Also, see the response to Comment 3 regarding harvest opportunity.

Total Allowable Catch (TAC) Amounts

Comment 5: The 2025 harvest specifications do not use the best scientific information available and are not compliant with the Magnuson-Stevens Act.

Response: NMFS disagrees. The final 2025 OFLs, ABCs, and TACs are based on the final 2025 SAFE report, which represents the best scientific information available on the biological condition of salmon stocks in Cook Inlet, as well as the EA for these harvest specifications, which analyzed impacts to the human environment, as required under the National Environmental Policy Act, and concluded in a FONSI. In determining what constituted the best scientific information available, NMFS conducted a review of the existing data and scientific literature related to Cook Inlet salmon stocks. The 2025 SAFE report was subject to peer review by the SSC, an advisory committee to the Council composed of scientists, as required by the Magnuson-Stevens Act (16 U.S.C. 1852(g)(1)(B)). The SSC recommended OFLs and ABCs in table 1, consistent with National Standard 1 (50 CFR 600.310(f)(3)) and National Standard 2 (50 CFR 600.315(c)-(d)). After considering recommendations from the SSC and public testimony, the Council recommended TACs for the 2025 fishing season, which NMFS adopts and implements in this final rule.

Comment 6: These TACs are based on incomplete and poor data; the TACs should not be based on past State management.

Response: All TACs are based on the best scientific information available for each managed stock or stock complex, consistent with National Standard 2. ABCs were recommended by the SSC based on the best scientific information available, which is contained in the 2025 SAFE report. After considering recommendations from the SSC and public testimony, the Council recommended TACs that are equal to the combined ABCs for each species of salmon. These TACs are consistent with the Salmon FMP and National Standard 1, including NMFS's obligations to prevent overfishing and ensure ACLs are not exceeded (50 CFR 600.310(g)(4)).

Section 4.2.6 of the Salmon FMP describes the TAC setting process for the Cook Inlet EEZ Area salmon fishery. For Tier 1 stocks (stocks with the highest level of information quality available), the ABCs are based on available yield after accounting for the spawning escapement target, predicted harvests in non-EEZ fisheries, and a buffer to account for scientific uncertainty. Therefore, TACs for Tier 1 stocks are based on the current assessment of available harvest, not historical harvest estimates. There were no Tier 2 stocks identified for 2025.

For Tier 3 stocks (stocks with the lowest level of information quality available), as described in the A16 EA/RIR, the ABCs are based on estimated historical harvests that have occurred in the EEZ in the timeseries under consideration (1999-present). Discussion of the timeseries used to estimate historical harvest from within the Cook Inlet EEZ Area can be found in the Comments and Responses section of the Cook Inlet Final 2024 Harvest Specifications for Salmon (starting on page 51450 at 89 FR 51448, June 18, 2024), Section 4.5.1.2.3 of the A16 EA/RIR, Section 4 of the 2025 SAFE report, and Section 3 of the EA for these harvest specifications. No TACs are based on past State management; rather TACs are based on NMFS's independent assessment that, in light of available data, EEZ harvest levels for Tier 3 stocks could not be meaningfully increased beyond historical harvest levels that have prevented overfishing while maintaining a viable commercial fishery. Estimates of past EEZ harvests represent the best scientific information available for Tier 3 stocks regarding the amount of EEZ harvest each stock can support. Finally, NMFS notes that the 2025 TACs established in this final rule represent an increase in potential harvest over what has been harvested in the Cook Inlet EEZ Area compared to the recent 10-year average, as further explained in the response to Comment 9.

Comment 7: Buffers between OFL and ABC, and ABC and TAC are not based on science.

Response: NMFS disagrees. For the 2025 harvest specifications, buffers between OFL and ABC were recommended by the SSC, consistent with National Standard 1 (50 CFR 600.310(f)(2) and (3)), to account for scientific uncertainty in the estimate of OFL and prevent overfishing. The buffer between OFL and ABC is based on a retrospective assessment of the 1-year-ahead forecast accuracy for predicting OFL (which is derived from preseason forecasts of run size and State harvest rate). The OFL and ABC are based on the best scientific information available, which is contained within the final 2025 SAFE report.

As discussed in Section 4.2.6 of the Salmon FMP, buffers between the ABC and TAC may be recommended by the Council to account for management and other sources of uncertainty (50 CFR 679.118(a)(2)) as a possible accountability measure to ensure ACLs are not exceeded, consistent with National Standard 1 (50 CFR 600.310(g)). As per Section 4.2.4 of the Salmon FMP, the ACL is equal to ABC for these salmon stocks. The 2025 harvest specifications do not include any buffers between ABC and TAC because NMFS determined that it was unlikely the fishery would exceed the ACL for any stock or stock complex based on its experience managing the fishery in 2024 (including observed harvest rates) and available inseason management tools (e.g., closing the fishery if NMFS determines that any salmon TAC may be reached for any species or stock, 50 CFR 679.118(c)(1)(i)).

Comment 8: TAC should be tied to expected returns and inseason analysis of escapement numbers.

Response: The procedures for specifying TACs, outlined in Section 4.2.6 of the Salmon FMP and implementing regulations (50 CFR 679.118), were established by amendment 16 to the Salmon FMP and are outside the scope of this action. However, expected returns for Tier 1 stocks are detailed in the final 2025 SAFE report (Section 3.3.2) and did inform the 2025 TACs. For Tier 1 stocks, as described in the Salmon FMP and the 2025 SAFE report, the OFL is based on expected total run size, expected harvests in non-EEZ fisheries, and the achievement of the spawning escapement target. The ABCs recommended by the SSC are based on OFL, reduced by a buffer that accounts for scientific uncertainty to ensure that the OFL is not exceeded (final 2025 SAFE report Section 3.3.2). And TACs are then set at or below the ABCs. In recommending TACs, the Council has the option of applying an additional buffer to the ABCs to account for harvest of weak salmon stocks, bycatch considerations, management uncertainty, ecosystem requirements, or social and economic considerations (Section 4.2.6 of the Salmon FMP).

For Tier 3 stocks, which generally lack sufficient data to inform preseason total run size forecasts, the OFLs, ABCs, and TACs are established based on estimated historical harvests in the EEZ (2025 SAFE report Section 3.3.4; Salmon FMP Section 4.2.4).

Inseason spawning escapement data are not used to establish TACs because TACs must be specified before the fishery opens, but for stocks with established spawning escapement targets, such targets are used to calculate SDC. However, NMFS will consider escapement numbers inseason to inform potential TAC adjustments or early closures in the event of a significant conservation concern.

Comment 9: The TACs are set too low.

Response: NMFS disagrees that the 2025 Cook Inlet EEZ Area TACs are set too low. After reviewing the 2025 preliminary SAFE report and considering public testimony, in compliance with National Standard 1 (50 CFR 600.310(f)(2)(3)) and as described in Section 4.2.4 of the Salmon FMP, the SSC recommended buffers between the OFLs and ABCs that represent the best scientific information available in ensuring that the OFL is not exceeded for any salmon stock or stock complex. The Council did not recommend additional buffers between the ABCs and TACs to account for additional sources of uncertainty, and NMFS, in specifying annual TAC amounts (see 50 CFR 679.118(a) and (b)), determined that it can manage the fishery to prevent stocks from exceeding their ABCs/ACLs without an additional buffer. For sockeye salmon, the dominant species harvested in the Cook Inlet EEZ salmon fishery, the 2025 TAC of 800,126 fish in these harvest specifications is substantially greater than the recent 10-year average harvest in the EEZ of approximately 353,300 fish, and is higher than the 2024 sockeye salmon TAC of 492,100 fish. The 2025 TACs for Aggregate Chinook and coho salmon are set equal to ABCs and are necessarily low due to stock abundance concerns, which were considered during the Council process and resulting recommendations. The 2025 TACs for Aggregate chum and pink are set equal to the ABCs and, although lower than the 2024 TACs, are substantially greater than what was harvested in 2024.

The final 2025 SAFE report describes the catch statistics for each stock or stock complex. See the responses to Comments 6 and 8 above for further details on the establishment of the 2025 TACs.

NMFS has determined that the 2025 TACs are appropriate for the Cook Inlet EEZ Area salmon fishery, are based on the best scientific information available from the 2025 SAFE report and relevant social and economic considerations consistent with the Salmon FMP (50 CFR 679.118(a)(2)), and will prevent harvest from exceeding the ABC/ACL for any stock or stock complex, as required by the Magnuson-Stevens Act and National Standard 1 guidelines (50 CFR 600.310(f)(1), (2), (3), (4)).

Comment 10: The TAC for Kenai River Late-Run sockeye has not been calculated with a high degree of confidence.

Response: NMFS disagrees. There is no TAC for Kenai River Late-Run sockeye. The combined TAC for all sockeye salmon stocks, which includes Kenai River Late-Run sockeye salmon stock, is based on the best scientific information available. The final 2025 SAFE report and the SSC recommended a Tier 1 determination for this stock because of the high quality of available data (Section 4.3.4).

In recommending ABCs, the SSC conducted a review of the final 2025 SAFE report, including calculations for status determination criteria (e.g., OFL), uncertainty associated with preseason total run size forecasts, and expected harvests in non-EEZ fisheries, all of which are based on the best scientific information available. These factors are considered when calculating the OFL, and are the basis for the ABC recommended by the SSC, the TAC recommended by the Council, and the OFL, ABC, and TAC implemented by NMFS in this final rule.

Comment 11: Including the OFLs and ABCs for other sockeye salmon would provide a helpful perspective on the number of sockeye salmon that could be harvested; it is unclear what percentage of sockeye salmon harvested from within the Cook Inlet EEZ are Kenai River Late-Run sockeye.

Response: The Alaska Department of Fish and Game (ADF&G) estimates genetic stock contribution from salmon fisheries within Cook Inlet and these estimates are incorporated into the 2025 SAFE report. The 2025 harvest specifications do include a separate OFL and ABC for the other sockeye salmon stocks, but only a single TAC because NMFS cannot differentiate among sockeye salmon stocks inseason.

As explained in detail in Section 4.2 of the final 2025 SAFE report, in 2024 ADF&G estimated that approximately 58 percent of the sockeye harvested in the EEZ were Kenai River Late-Run sockeye salmon. Additional historical harvest estimates for this stock can be found in Section 4.2 and table 7 of the final 2025 SAFE report.

Comment 12: We have concerns over a lack of specific catch limits for sockeye salmon populations from the Matanuska River and other tributaries of Upper Cook Inlet including Knik Arm. As written, the TAC for these “Aggregate Other sockeye salmon,” is combined with Kenai River Late-Run sockeye salmon and Kasilof River sockeye salmon, and set at 800,126 fish. We believe this high limit is more fitting for the robust Kenai and Kasilof populations and may result in inadvertent overfishing of smaller Upper Cook Inlet sockeye salmon populations.

Response: For the Tier 3 Aggregate Other sockeye salmon stock complex, which includes populations in the Knik Arm and Matanuska River, NMFS is not aware of established spawning escapement data beyond those considered in the A16 EA/RIR and the final 2025 SAFE report that would allow NMFS to specify OFL and ABC with any greater certainty. Regardless, without additional information and management tools, TACs cannot practically be established for individual sockeye salmon stocks that spawn in each of the many drainages that flow into Upper Cook Inlet because it is not possible to differentiate among (and therefore account for) harvested salmon stocks of the same species in season. The relative contribution of each stock or stock complex to total sockeye harvest can be determined only through genetic testing post-season given current management tools.

For each of the sockeye salmon stocks defined in the Salmon FMP (Section 4.2.4), to ensure that overfishing does not occur for any salmon stock harvested in the Cook Inlet EEZ Area, the SSC recommended buffers to reduce ABC from OFL, accounting for scientific uncertainty. For the reasons stated above, the Council recommended a single sockeye salmon TAC based on combined ABCs for each of the three sockeye salmon stocks. Based on NMFS's experience managing the fishery in 2024, and in consideration of available inseason management tools, NMFS determined that the combined TAC for sockeye salmon stocks would not result in harvest levels that would exceed the ABC/ACL for any individual stock or stock complex, including the Aggregate Other sockeye salmon stock complex.

Coho Salmon

Comment 13: The 2025 harvest specifications assume that the three streams used for coho assessments in the Mat-Su [Matanuska-Susitna Valley] are representative of all 1,200 plus streams occupied by coho north of the Anchor Point line. Which of the three coho assessments did NMFS use to determine the drastically reduced 2025 harvest specifications?

Response: As described in the 2025 SAFE report, the coho salmon indicator stocks that are used to assess status determination criteria for the Aggregate coho salmon stock complex (Deshka and Little Susitna rivers) were selected from streams that are considered to have a reliable history of spawning escapements. These two coho salmon indicator stocks were also used to assess status determination criteria in the 2024 SAFE report and establish 2024 harvest specifications. ADF&G has monitored these stocks and has established spawning escapement goals, and the associated annual spawning escapement estimates represent the best scientific information available for assessing status determination criteria for the stock complex (Section 4.6.2 of the final 2025 SAFE report). For 2024, the indicator stocks had historically low spawning escapements and harvest estimates across fisheries, indicating an overall state of low abundance for the coho salmon stock complex.

The final 2025 SAFE report contains a discussion about spawning escapement estimates for the coho salmon stock complex. The SSC reviewed the final 2025 SAFE report and, after considering the historically low spawning escapements (and harvests) during 2024, recommended an ABC for this stock complex with a large (75 percent) buffer between the preseason OFL and the ABC. After considering recommendations from the SSC and public testimony, the Council recommended a TAC set equal to ABC and NMFS agreed that it could rely on its inseason management tools to avoid exceeding the ABC/ACL for the coho salmon stock complex and that the buffer between OFL and ABC was sufficiently precautionary to prevent overfishing in light of available data and significant scientific uncertainty. The NMFS assessment authors will continue to review and assess available coho salmon spawning escapement data in future years.

Overfishing

Comment 14: Additional analysis of the populations should be conducted to ensure that the Kenai River Late-Run sockeye salmon are not threatened by overfishing.

Response: The final 2025 SAFE report contains an assessment of the Kenai River Late-Run sockeye salmon stock (Section 4.2). As discussed in the final 2025 SAFE report, there is extensive assessment information for this stock and current estimates suggest that this stock has consistently achieved or exceeded its spawning escapement goals (Section 4.2.3), with no indications that the stock is threatened by overfishing. Furthermore, the A16 EA/RIR (Sections 2.5 and 3.1) and EA for these 2025 harvest specifications (Sections 3.3 and 3.4) provide a robust analysis on all salmon species occurring in the Cook Inlet EEZ Area. Continued analysis of all salmon stocks is expected to prevent overfishing within the Cook Inlet EEZ Area, consistent with the Magnuson-Stevens Act and National Standard 1.

Inseason Sampling

Comment 15: We suggest that NOAA incorporate inseason genetic sampling into its management plan for the Cook Inlet EEZ. We support either subsampling of commercial fish caught in the EEZ, or the implementation of a test fishery like ADF&G formerly operated between Anchor Point and the Red River Delta combined with genetic sampling.

Response: NMFS acknowledges that establishing an inseason genetic sampling program would provide additional important data to inform inseason management decisions and postseason analyses. In the absence of such data, NMFS will continue to rely on ADF&G's genetic stock contribution estimates for its assessment of stocks harvested in the Cook Inlet EEZ Area, which currently represents the best scientific information available.

NMFS also acknowledges that a test fishery could provide important inseason abundance information to inform inseason management and could provide a platform for conducting genetic and other sampling to inform stock composition in the Cook Inlet EEZ Area. However, development of additional data sources are outside the scope of this action.

Small Entities and Economic Importance

Comment 16: The maximum revenue cap on fishing entities discourages overfishing and allows for more opportunities for small fishing entities. The measure of restricting fishing to only small entities provides protection to both the fish species in the region and to the local fisherman that make their livelihoods in the Cook Inlet.

Response: This rule does not establish a maximum revenue cap on individual fishing entities. Neither this harvest specifications rule nor any other rule that governs fishing in the Cook Inlet EEZ Area establish a maximum revenue cap that would prevent participation by fishing entities that do not meet the small entity definition in the Regulatory Flexibility Act (5 U.S.C. 601). There are no restrictions based on the size of an entity for the Cook Inlet EEZ Area and all of the directly regulated entities that participate in this fishery are considered small entities. This harvest specifications rule provides fishing opportunities within the EEZ and each entity's total revenue depends on its fishing success and market prices.

Comment 17: NMFS's incomplete and inadequate Salmon FMP is damaging those of us who depend on this fishery for our livelihoods.

Response: NMFS acknowledges the economic importance of this fishery to participants. While the management measures implemented by amendment 16 to the Salmon FMP are outside the scope of this action, NMFS disagrees that the FMP is incomplete or inadequate. In compliance with all National Standards, Federal regulations at 50 CFR parts 600 and 679, and the Salmon FMP; these harvest specifications provide the most fishing opportunity possible in light of the best scientific information available regarding the condition of each stock or stock complex, while ensuring that harvest levels will not result in overfishing on less abundant stocks. Additionally, as noted in the responses to Comments 6 and 9, the 2025 TACs represent an overall increase in potential harvest compared to the recent 10-year average harvest levels in the Cook Inlet EEZ Area, and the TAC for sockeye salmon is substantially higher than the recent 10-year average.

National Standards

Comment 18: The proposed harvest specifications potentially violate all of the Magnuson-Stevens Act's National Standard requirements.

Response: NMFS disagrees and has determined that the harvest specifications are consistent with all of the Magnuson-Stevens Act's National Standards.

Consistency with National Standard 1 is addressed in more detail in several responses to comments, including the responses to Comments 1, 5, 6, 7, and 9. In brief, National Standard 1 states that conservation and management measures shall prevent overfishing while achieving, on a continuing basis, the OY from each fishery for the United States fishing industry. Under the National Standard 1 guidelines, OY is prescribed on the basis of MSY. These 2025 harvest specifications result in harvest limits that fall within the OY range established for the Cook Inlet EEZ Area, can be achieved, and are expected to prevent overfishing on all stocks.

Consistent with National Standard 2, the data, estimates, and analyses used to conduct the stock assessment analyses and calculate status determination criteria are based upon the best scientific information available and were reviewed by the SSC, which recommend OFLs and ABCs. After considering recommendations by the SSC and public testimony, the Council recommended TACs which NMFS adopts and implements in this final rule. The responses to Comments 5 and 6 provide additional general discussion of the scientific basis of these harvest specifications.

Consistent with National Standard 3, this action manages all salmon stocks as a unit throughout their range to the extent practicable. These specifications establish harvest limits for all salmon fishing in the Cook Inlet EEZ Area under NMFS's jurisdiction, while considering all other salmon fishing and management in other jurisdictions. These specifications will ensure that no stocks are subject to overfishing or are overfished, and are consistent with NMFS's obligation to achieve OY on a continuing basis over the long term.

Consistent with National Standard 4, these harvest specifications do not discriminate between residents of different states. The specifications do not allocate or assign any fishing privileges among fishermen. Regardless, these harvest specifications are fair and equitable to all fishery participants by maintaining historical harvest proportions and levels, are reasonably calculated to promote conservation by avoiding overfishing, and ensure that no entity acquires an excessive share of harvest privileges.

National Standard 5 states that conservation and management measures shall, where practicable, consider efficiency in the utilization of fishery resources; except that no such measure shall have economic allocation as its sole purpose. This action allows for efficient and historically-consistent commercial drift gillnet harvest of nearly all salmon stocks in the Cook Inlet EEZ Area, subject to the constraints of scientific and management uncertainty, weak stock management, allowing for escapement needs, and allowing for a harvestable surplus for other users.

Consistent with National Standard 6, these harvest specifications account for and allow for variations among, and contingencies in, fisheries, fishery resources, and catches and—as required by the National Standard 6 guidelines—provide “a suitable buffer in favor of conservation” in light of scientific and management uncertainties (see 50 CFR 600.335(c)).

These harvest specifications impose no costs and are not duplicative of any other management measures and are therefore consistent with National Standard 7.

Consistent with National Standard 8, these harvest specifications maintain historical access to the resource for all fishing communities in Cook Inlet, consistent with current conservation conditions, while also preventing overfishing on the stocks or stock complexes caught in fisheries throughout Cook Inlet. This includes maintaining conditions for fishing communities dependent on salmon fishing in the Cook Inlet EEZ Area as well as those dependent on salmon fishing within State of Alaska waters.

Consistent with National Standard 9, this action minimizes bycatch and bycatch mortality by establishing salmon TACs that can be achieved without additional or different fishing effort that would increase bycatch.

Consistent with National Standard 10, this action promotes safety by establishing TACs that can be achieved during the summer period of relatively good weather.

Directed Fishing Closures and Inseason Adjustments

In accordance with 50 CFR 679.118(c)(1)(i), NMFS will prohibit commercial fishing for salmon in the Cook Inlet EEZ Area if NMFS determines that any salmon TAC has been or may be reached for any salmon species or stock. NMFS may also make adjustments to a TAC for any salmon species or stock, or open or close a season, in the Cook Inlet EEZ Area, if necessary to prevent overfishing among other reasons, consistent with 50 CFR 679.25. NMFS will publish a temporary rule in the Federal Register on such inseason adjustments or directed fishing closures. In addition, such changes to the salmon fishery in the Cook Inlet EEZ Area will be posted at the following website under the Alaska filter for Management Areas: https://www.fisheries.noaa.gov/news-and-announcements/bulletins.

Changes From Proposed to Final Rule

NMFS undertook a thorough review of the relevant comments received during the public comment period. However, for reasons described in the preceding section, NMFS made no changes from the proposed rule.

Classification

NMFS is issuing this final rule pursuant to section 305(d) of the Magnuson-Stevens Act. Through previous actions, the Salmon FMP and regulations are designed to authorize NMFS to take this action (see 50 CFR 679.118). The NMFS Assistant Administrator has determined that this final rule is consistent with the Magnuson-Stevens Act, the Salmon FMP, and other applicable laws.

Pursuant to 5 U.S.C. 553(d)(3), the Assistant Administrator for Fisheries, NOAA, finds good cause to waive the 30-day delay in the date of effectiveness for this rule because delaying this rule is contrary to the public interest. The Assistant Administrator for Fisheries finds that the need to establish final total allowable catch amounts in the Cook Inlet EEZ Area makes it contrary to the public interest to delay the effective date of the final harvest specifications for 30 days. If the final harvest specifications are not effective by the start of the Cook Inlet EEZ Area salmon fishery as required by 50 CFR 679.118(e), the Cook Inlet EEZ Area salmon fishery will not be able to open by the start date set in regulation. Immediate effectiveness of the final 2025 harvest specifications will allow the Federal fishery to start on June 19, 2025 (the same day as the State drift gillnet fishery), thus preventing confusion that could occur if the State of Alaska and Federal fisheries opened on different dates, as many vessels participate in both fisheries. In addition, immediate effectiveness of this action is required to provide consistent management and conservation of fishery resources based on the best available scientific information, and to give the fishing industry the earliest possible opportunity to plan fishing operations. These final 2025 harvest specifications, as well as the earlier proposed harvest specifications, were developed as quickly as possible given the availability of essential data and required review. The SSC provided review of the SAFE report at the February 2025 Council meeting, the earliest meeting at which that scientific information was available. Relying on SSC advice, NMFS revised the SAFE report and drafted proposed harvest specifications, which it published on April 4, 2025. NMFS then offered a 32 day public comment period on the proposed harvest specifications, which closed on May 5, 2025. After the close of the comment period, NMFS developed the final harvest specifications as quickly as possible, responding to all comments, to ensure the specifications could be implemented by the June 19, 2025, opening date for the Cook Inlet EEZ Area commercial fishery.

This action is exempt from review under Executive Order 12866. This final rule is not a regulatory action under Executive Order 14192. To provide for meaningful and timely consultation or engagement in the development of this action, NMFS invited Tribes to participate in consultation or engagement. No Tribes requested consultation or engagement. One Tribe (the Chickaloon Village Traditional Council) submitted a comment letter on the proposed rule and expressed concern over the TAC for Aggregate Other sockeye salmon and the need for inseason genetic sampling as well as a test fishery. Comments submitted by Tribal officials have been addressed in the preamble to the final rule (in Response to Comments), specifically in the response to Comments 12 and 15. A Tribal summary impact statement under section (5)(b)(2)(B) and section (5)(c)(2) of Executive Order 13175 was not required for this final rule because this action does not impose substantial direct compliance costs on Indian Tribal Governments and this action does not preempt Tribal law.

NMFS prepared an EA for the 2025 Cook Inlet EEZ Area salmon fishery harvest specifications, which incorporates by reference the A16 EA/RIR to the Salmon FMP (see ADDRESSES). NMFS concluded that there will be no significant impact on the human environment as a result of this rule, which will not change the spatial or temporal distribution of the fishery, and that this action is expected to result in harvests consistent with historical levels, will prevent overfishing, and is intended to be of limited duration as the TACs are recommended annually. A copy of the EA is available from NMFS (see ADDRESSES).

This action does not modify recordkeeping or reporting requirements or duplicate, overlap, or conflict with any Federal rules.

This final rule contains no information collection requirements under the Paperwork Reduction Act of 1995.

Final Regulatory Flexibility Analysis

Section 604 of the Regulatory Flexibility Act (RFA) (5 U.S.C. 604) requires an agency that promulgates a final rule under 5 U.S.C. 553, after being required by that section or any other law to publish a general notice of proposed rulemaking, to prepare a final regulatory flexibility analysis (FRFA). The following constitutes the FRFA prepared for these final 2025 harvest specifications.

Section 604 of the RFA describes the required contents of a FRFA: (1) a statement of the need for, and objectives of, the rule; (2) a statement of the significant issues raised by the public comments in response to the initial regulatory flexibility analysis, a statement of the assessment of the agency of such issues, and a statement of any changes made in the rule as a result of such comments; (3) the response of the agency to any comments filed by the Chief Counsel for Advocacy of the Small Business Administration in response to the proposed rule, and a detailed statement of any change made to the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are included in the Background section of this final rule and are not repeated here.

NMFS published the proposed rule on April 4, 2025 (90 FR 14771). NMFS prepared an Initial Regulatory Flexibility Analysis (IRFA) to accompany the proposed action, and included the IRFA in the proposed rule. The comment period closed on May 5, 2025. One commenter expressed support for the continued participation of small entities in the Cook Inlet salmon fishery (see Comment 16 and the response in the Response to Comments section above). Another commenter noted the livelihoods that depend on this fishery were being harmed by the Salmon FMP (see Comment 17 and the response in the Response to Comments section above). No comments were received specifically on the IRFA.

The Chief Counsel for Advocacy of the Small Business Administration did not file any comments on the proposed rule.

For RFA purposes only, NMFS has established a small business size standard for businesses, including their affiliates, whose primary industry is commercial fishing (see 50 CFR 200.2). A business primarily engaged in commercial fishing (North American Industry Classification System (NAICS) code 11411) is classified as a small business if it is independently owned and operated, is not dominant in its field of operation (including its affiliates), and has combined annual gross receipts not in excess of 11 million dollars for all its affiliated operations worldwide. In addition, the Small Business Administration has established a small business size standard applicable to charter fishing vessels (NAICS code 713990) of 9 million dollars, https://www.sba.gov/document/support-table-size-standards.

Number and Description of Small Entities Regulated by This Final Rule

This final rule directly regulates commercial salmon fishing vessels that operate in the Cook Inlet EEZ Area, and charter guides and charter businesses fishing for salmon in the Cook Inlet EEZ Area. Because NMFS expects the State of Alaska to maintain current requirements for commercial salmon fishing vessels landing any salmon in Upper Cook Inlet to hold a Commercial Fisheries Entry Commission (CFEC) drift gillnet (S03H) permit, NMFS does not expect participation from non-S03H permit holders in the federally-managed commercial salmon fishery in the Cook Inlet EEZ Area. Therefore, the number of S03H permit holders represents the maximum number of directly regulated entities for the commercial salmon fishery in the Cook Inlet EEZ Area. From 2019 to 2023, there was an annual average of 552 S03H permits in circulation, with an average of 311 active permit holders (based on fish ticket data from CFEC), all of which are considered small entities based on the 11 million dollar threshold. The evaluation of the number of directly regulated small entities and their revenue was conducted via custom query by staff of the Alaska Fish Information Network utilizing both ADF&G and Fish Ticket revenue data and the CFEC permits database. Similarly, the EA (see ADDRESSES) provides the most recent tabulation of commercial charter vessels that could potentially fish for salmon within the Cook Inlet EEZ Area and are consistent with the data described in this rule.

The commercial fishing entities directly regulated by these 2025 salmon harvest specifications are the entities operating vessels with Salmon Federal Fisheries Permits (SFFPs) catching salmon in Federal waters. For purposes of this analysis, NMFS assumes that the number of small entities with SFFPs that are directly regulated by the salmon harvest specifications is the average number of S03H permits in circulation (i.e., an average of 552 permits, with an average of 311 active permit holders). The average of 552 permits may be an overstatement of the number of directly-regulated small entities since some entities may hold more than one permit and some permits are not active.

The commercial charter fishing entities directly regulated by these 2025 salmon harvest specifications are the entities that hold commercial charter licenses and that choose to fish for salmon in the Cook Inlet EEZ Area where these harvest specifications will apply. Salmon charter operators are required to register with the State of Alaska annually and the numbers of registered charter operators in the Cook Inlet area varies. Available data indicates that from 2017 to 2022 the annual total number of directly regulated charter vessel small entities that have participated in the Cook Inlet EEZ Area has been as high as 377 permit holders. All of these entities, if they choose to fish in the Cook Inlet EEZ Area, are directly regulated by this action and all are considered small entities based on the 9 million dollar threshold.

Description of Significant Alternatives That Minimize Adverse Impacts on Small Entities

This action to implement 2025 harvest specifications for the Cook Inlet EEZ Area salmon fishery is taken in accordance with the Salmon FMP and pursuant to the Magnuson-Stevens Act. The establishment of the harvest specifications is governed by the process described in the Salmon FMP and regulations implementing the Salmon FMP, and specifically provisions on the determination of harvest levels for salmon in the Cook Inlet EEZ Area (50 CFR 679.118(a) and (b)). Under this process, the OFL, ABC, and TAC must be specified annually for each salmon stock or stock complex. Salmon stocks or stock complexes may be split or combined for purposes of establishing a new harvest specification unit if such action is desirable based on the commercial importance of a stock or stock complex, or if sufficient biological information is available to manage a stock or stock complex as a single unit. Those stocks and stock complexes are separated into three tiers based on the level of information available for each stock and stock complex, and the corresponding tier is used to calculate OFL and ABC.

For each stock and stock complex, NMFS establishes harvest specifications prior to the commercial salmon fishing season. To inform the harvest specifications, NMFS prepares the annual SAFE report, based on the best scientific information available at the time it is prepared, for review by the SSC and the Council. The SAFE report provides information needed for: (1) determining annual harvest specifications; (2) documenting significant trends or changes in the stocks, marine ecosystem, and fisheries over time; and (3) assessing the performance of existing State of Alaska and Federal fishery management programs. The SAFE report provides a summary of the most recent biological condition of the salmon stocks.

For these final 2025 harvest specifications for salmon in the Cook Inlet EEZ Area, NMFS prepared the preliminary 2025 SAFE report and consulted with the Council, consistent with the Salmon FMP and implementing regulations. The final TACs are based on the final SAFE report, which represents the best scientific information currently available for the stock and stock complexes identified by NMFS. These final TACs have been developed in a manner consistent with the process provided for determining harvest levels in the Salmon FMP and implementing regulations. In light of the manner in which the fishery will operate—including the limited number of fishing periods—and NMFS's ability to monitor the TAC for each salmon species and implement inseason closures as necessary, as well as NMFS's success last year in monitoring and managing the fishery to ensure no ABC was exceeded, NMFS has determined that these TACs will ensure that the ABC (and therefore ACL) for any stock or stock complex is not exceeded and will prevent overfishing. In addition, the TACs for combined sockeye salmon provide sufficient opportunity for harvest and are above the recent 10-year average estimated EEZ harvest.

Under this action, the ABCs reflect harvest amounts that are less than the specified OFLs, and the TACs do not exceed the biological reference points (i.e., the ABCs and OFLs) recommended by the SSC. The Salmon FMP specifies that annual TAC determinations may be made based on social and economic considerations, including the need to promote efficiency in the utilization of fishery resources, including minimizing costs; the desire to conserve, protect, and rebuild depleted salmon stocks; the importance of a salmon fishery to harvesters, processors, local communities, and other salmon users in Cook Inlet; and the need to promote utilization of certain species (see 50 CFR 679.118(a)(2)(ii)). In this action, the TACs are set equal to ABCs and account for these considerations. TACs cannot be set higher than the ABCs.

This action is economically beneficial to entities operating in the Cook Inlet EEZ Area salmon fishery, including small entities. This action adopts TACs for commercially-valuable salmon stocks at levels that allow for the prosecution of the salmon fishery in the Cook Inlet EEZ Area to the extent possible based on the identified uncertainty and other factors discussed above and in response to Comment 16, thereby maximizing the opportunity for fishery revenue, while also preventing overfishing. The TACs for each commercially-valuable salmon stock or stock complex, except for Aggregate coho, are higher than the recent ten-year average catch harvested in the Cook Inlet EEZ Area, and this increase may allow for additional harvest opportunity. For each salmon species for which NMFS establishes harvest specifications, NMFS determined that the final 2025 TACs will provide harvest opportunities for entities operating in the Cook Inlet EEZ Area, including small entities. These TACs cannot be set higher during 2025 because all TACs have been set equal to ABCs (but cannot be set higher than those ABCs) and the biological condition of each species does not support higher ABCs (and therefore TACs). For these reasons, there are no alternative TACs that would reduce impacts to small entities.

Based upon the best scientific information available and in consideration of the objectives for this final action, there are no significant alternatives to this final rule for salmon harvest specifications that have the potential to comply with the Salmon FMP, accomplish the stated objectives of the Magnuson-Stevens Act or any other statutes, and minimize any significant adverse economic impact of the action on small entities while preventing overfishing. After a public process during which the Council and NMFS solicited input from stakeholders, and after NMFS issued a proposed rule and considered public comment on the proposed rule, NMFS is implementing the TACs recommended by the Council, as NMFS has determined that would best accomplish the stated objectives articulated in the preamble for this final rule, and in applicable statutes, and that would minimize to the extent practicable adverse economic impacts on directly regulated small entities.

Small Entity Compliance Guide

Section 212 of the Small Business Regulatory Enforcement Fairness Act of 1996, as amended (Small Business Regulatory Enforcement Fairness Act, Pub. L. 104-121, 110 Stat. 857), states that, for each rule or group of related rules for which an agency is required to prepare a FRFA, the agency shall publish one or more guides to assist small entities in complying with the rule, and shall designate such publications as “small entity compliance guides.” This final rule's primary purpose is to establish the final 2025 harvest specifications for the salmon fishery of the Cook Inlet EEZ Area, and to accomplish the goals and objectives of the Salmon FMP.

The table contained in this final rule is provided online at: https://www.fisheries.noaa.gov/alaska/commercial-fishing/salmon-management-federal-waters-cook-inlet-cook-inlet-eez and serves as the small entity compliance guide to assist small entities in complying with this final rule as required by the Small Business Regulatory Enforcement Fairness Act. NMFS will announce other closures or openings of directed fishing in the Federal Register and information bulletins released by the Alaska Region.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: June 13, 2025.
Samuel D. Rauch III,
Deputy Assistant Administrator for Regulatory Programs, National Marine Fisheries Service.

[FR Doc. 2025-11159 Filed 6-16-25; 8:45 am]

BILLING CODE 3510-22-P